DEPARTMENT OF LABOR

Employment and Training Administration

[NAFTA-4034]

Gynecare; Ethicon Division; Menlo Park, California; Notice of Termination of Investigation

Pursuant to Title V of the North American Free Trade Agreement Implementation Act (Pub. L. 103-182) concerning transitional adjustment assistance, hereinafter called NAFTA-TAA and in accordance with Section 250(a), Subchapter D, Chapter 2, Title II, of the Trade Act of 1974, as amended (19 U.S.C. 2331), an investigation was initiated on July 17, 2000, in response to a petition filed by the company on behalf of workers at Gynecare, Ethicon Division, Menlo Park, California.

The petitioner has requested that the investigation be terminated and a petition will be filed closer to the time the workers will be separated. Consequently, further investigation in this case would serve no purpose, and the investigation has been terminated.

Signed at Washington, D.C., this 18th day of August, 2000.
Grant D. Beale,
Program Manager, Division of Trade Adjustment Assistance.

[FR Doc. 00-22330 Filed 8-30-00; 8:45 am]

BILLING CODE 4510-30-M